NUCLEAR REGULATORY COMMISSION

[NRC-2018-0066]

Dry Storage and Transportation of High Burnup Spent Nuclear Fuel

AGENCY: Nuclear Regulatory Commission.

ACTION: Draft NUREG; reopening of comment period.

SUMMARY: On August 9, 2018, the U.S. Nuclear Regulatory Commission (NRC) solicited comments on draft NUREG entitled, NUREG-2224, “Dry Storage and Transportation of High Burnup Spent Nuclear Fuel.” The public comment period closed on September 24, 2018. The NRC has decided to reopen the public comment period to allow more time for members of the public to develop and submit their comments.

DATES: The comment period for the document published on August 9, 2018 (83 FR 39475) has been reopened. Submit comments on the draft NUREG-2224 by November 9, 2018. Comments received after this date will be considered, if it is practical to do so, but the NRC is able to ensure consideration only for comments received on or before this date.

ADDRESSES: You may submit comments by any of the following methods:

• Federal Rulemaking Website: Go to http://www.regulations.gov and search for Docket ID NRC-2018-0066. Address any questions about NRC Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Wendy Reed, Office of Nuclear Material Safety and Safeguards, telephone: 301-415-7213; email: Wendy.Reed@nrc.gov; U.S. Nuclear Regulatory Commission, Washington, DC 20555-0001.

SUPPLEMENTARY INFORMATION:

I. Obtaining Information and Submitting Comments

A. Obtaining Information

Please refer to Docket ID NRC-2018-0066 when contacting the NRC about the availability of information for this action. You may obtain publicly-available information related to this action by any of the following methods:

• Federal Rulemaking Website: Go to http://www.regulations.gov and search for Docket ID NRC-2018-0066.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. Draft NUREG-2224, “Dry Storage and Transportation of High Burnup Spent Nuclear Fuel” is available in ADAMS under Accession No. ML18214A132.

• NRC's PDR: You may examine and purchase copies of public documents at the NRC's PDR, Room O1-F21, One White Flint North, 11555 Rockville Pike, Rockville, Maryland 20852.

B. Submitting Comments

Please include Docket ID NRC-2018-0066 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On August 9, 2018 (83 FR 39475), the NRC solicited comments on draft NUREG-2224, “Dry Storage and Transportation of High Burnup Spent Nuclear Fuel.” The public comment period closed on September 24, 2018. The NRC has decided to reopen the public comment period on this document until November 9, 2018, to allow more time for members of the public to submit their comments.

Dated at Rockville, Maryland, on October 4, 2018.
For the Nuclear Regulatory Commission.
Aida E. Rivera-Varona,
Acting Deputy Director, Division of Spent Fuel Management, Office of Nuclear Material Safety and Safeguards.

[FR Doc. 2018-21974 Filed 10-9-18; 8:45 am]

BILLING CODE 7590-01-P